DEPARTMENT OF TRANSPORTATION

Federal Highway Administration

Notice of Final Federal Agency Actions on Proposed Highway in California

AGENCY: Federal Highway Administration (FHWA), U.S. DOT.

ACTION: Notice of limitation on claims for judicial review of actions by FHWA and other Federal agencies.

SUMMARY: This notice announces actions taken by the FHWA and other Federal agencies that are final within the meaning of 23 U.S.C. 139(l)(1). These actions relate to a proposed highway project known as the Marin Sonoma Narrows High Occupancy Vehicle (HOV) Widening project on US 101 from south of the Route 37 Interchange in the City of Novato, Marin County, to north of the Corona Road Overcrossing in the City of Petaluma, Sonoma County, State of California. Those actions grant licenses, permits, and approvals for the project.

DATES: By this notice, the FHWA is advising the public of final agency actions subject to 23 U.S.C. 139(l)(1). A claim seeking judicial review of the Federal agency actions on the highway project will be barred unless the claim is filed on or before May 24, 2010. If the Federal law that authorizes judicial review of a claim provides a time period of less than 180 days for filing such claim, then that shorter time period still applies.

FOR FURTHER INFORMATION CONTACT: Lanh Phan, Transportation Engineer, Federal Highway Administration, 650 Capitol Mall, Suite 4-100, Sacramento, CA 95814, weekdays between 7 a.m. and 4 p.m., telephone 916-498-5046, lanh.phan@dot.gov. For California Department of Transportation: Melanie Brent, Office Chief, Caltrans Environmental Analysis, P.O. Box 23660, Oakland, CA 94623-0660, weekdays between 7:30 a.m. and 4:30 p.m., telephone 510-286-5231, melanie_brent@dot.ca.gov.

SUPPLEMENTARY INFORMATION: Notice is hereby given that the FHWA and other Federal agencies have taken final agency actions subject to 23 U.S.C. 139(l)(1) by issuing licenses, permits, and approvals for the following highway project in the State of California: The Marin Sonoma Narrows HOV Widening Project in Marin and Sonoma Counties. The project consists of the addition of continuous northbound and southbound HOV lanes along the above-defined 16-mile stretch of US 101. As the principal route in the coastal northwest region between the San Francisco Bay Area and Oregon, US 101 provides a continuous north/south route through Marin and Sonoma Counties for long distance, intercity, and intracity traffic. The project is needed to reduce recurring traffic congestion and improve mobility, and address physical and operational deficiencies of the roadway. The continuous northbound and southbound HOV lanes would be accomplished within the existing median of the US 101 facility, with minor outside widening in the southern and northern segments of the project. However, in the more rural middle segment, the project will replace the existing four-lane expressway, with open medians and direct access driveways, with a six-lane, access-controlled freeway to standardize horizontal and vertical curves, lane widths, and the construction of one new interchange.

The actions by the Federal agencies, and the laws under which such actions were taken, are described in the Final Environmental Impact Statement (FEIS) for the project, approved on July 21, 2009, and in the FHWA Record of Decision (ROD), issued on October 29, 2009, and in other documents in the FHWA project records. The FEIS, ROD, and other project records are available by contacting Caltrans at the address provided above. The FHWA FEIS and ROD can be viewed and downloaded from the Caltrans project Web site at http://www.dot.ca.gov/dist4/msn/ or from the Caltrans District 4 Web site at http://www.dot.ca.gov/dist4/msn/msn_feir_s/msn_feir.htm.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Paleontology: Antiquities Act of 1906 [12 U.S.C. 431-433], Federal-Aid Highway Act of 1935 [200 U.S.C. 78].

4. Wildlife: Endangered Species Act [16 U.S.C. 1521-1544 and Section 1536], Fish and Wildlife Coordination Act [16 U.S.C. 661-667(d)], Migratory Bird Treaty Act [16 U.S.C. 703-712], Magnuson-Stevens Fishery Conservation and Management Act of 1976, as amended [16 U.S.C. 1801 et seq.].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209]; Uniform Relocation Assistance and Real Property Acquisition Policy Act of 1970, as amended.

7. Wetlands and Water Resources: Clean Water Act, 33 U.S.C. 1251-1377 (Section 404, Section 401, Section 319); Flood Disaster Protection Act, 42 U.S.C. 4001-4128; Rivers and Harbors Act of 1899, 33 U.S.C. 401-406.

8. Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

9. Executive Orders: E.O. 11990 Protection of Wetlands; E.O. 11988 Floodplain Management; E.O. 12898, Federal Actions to Address Environmental Justice in Minority Populations and Low Income Populations; E.O. 11593 Protection and Enhancement of Cultural Resources; E.O. 13175 Consultation and Coordination with Indian Tribal Governments; E.O. 11514 Protection and Enhancement of Environmental Quality; E.O. 13112 Invasive Species; E.O. 12088 Federal Compliance with Pollution Control.

(Catalog of Federal Domestic Assistance Program Number 20.205, Highway Planning and Construction. The regulations implementing Executive Order 12372 regarding intergovernmental consultation on Federal programs and activities apply to his program.)

Authority: 23 U.S.C. 139(I)(1).

Issued on: November 16, 2009.
Cindy Vigue,
Director, State Programs, Federal Highway Administration, Sacramento, California.

[FR Doc. E9-28044 Filed 11-20-09; 8:45 am]

BILLING CODE 4910-RY-P